DEPARTMENT OF ENERGY

FEDERAL ENERGY REGULATORY COMMISSION

Notice of Meeting

January 26, 2001.

[Docket Nos. EL00-95-000, EL00-95-004, EL00-95-005, EL00-95-006, EL00-95-007, EL00-95-008, EL00-95-009, EL00-95-010 and EL00-95-11; EL00-98-000, EL00-98-004, EL00-98-005, EL00-98-006, EL00-98-007, EL00-98-008, EL00-98-009, EL00-98-010 and EL00-98-011; EL00-97-000, EL00-104-000; EL01-1-000; EL01-2-000; EL01-10-000; RT01-15-000; RT01-35-000; RT01-82-000; RT01-83-000; RT01-85-000; RT01-92-000; RT01-93-000; RP01-180-000; RP99-507-004; RP99-507-005, RP99-507-006, RP99-507-007, RP99-507-008, RP99-507-009 and RP99-507-010; RP00-139-001; and RP00-139-002; RP00-241-000; RP00-241-001 and RP00-241-002; RP01-27-000; CP01-31-000, CP01-22-000; CP01-23-000; CP01-24-000 and CP01-25-000, ER01-607-000, ER01-607-001, ER01-889-000, ER01-902-000, CP00-68-000]

San Diego Gas & Electric Company, Complainant, v. Sellers of Energy and Ancillary Services Into Markets Operated by the California Independent System Operator and the California Power Exchange, Respondents; Investigation of Practices of the California Independent System Operator and the California Power Exchange; Reliant Energy Power Generation, Inc., Dynegy Power Marketing, Inc., and Southern Energy California, L.L.C., Complainants, v. California Independent System Operator Corporation, Respondent; California Electricity Oversight Board, Complainant, v. All Sellers of Energy and Ancillary Services Into the Energy and Ancillary Services Markets Operated by the California Independent System Operator and the California Power Exchange, Respondents; California Municipal Utilities Association, Complaint v. All Jurisdictional Sellers of Energy and Ancillary Services Into Markets Operated by the California Independent System Operator and the California Power Exchange, Respondents; Californians for Renewable Energy, Inc. (CARE), Complainant, v. Independent Energy Producers, Inc., and All Sellers of Energy and Ancillary Services Into Markets Operated by the California Independent System Operator and the California Power Exchange; All Scheduling Coordinators Acting on Behalf of the Above Sellers; California Independent System Operator Corporation; and California Power Exchange Corporation, Respondents; Puget Sound Energy, Inc., Complainant, v. All Jurisdictional Sellers of Energy and/or Capacity at wholesale Into Electric Energy and/or Capacity Markets in the Pacific Northwest, Including Parties to the Western Systems Power Pool Agreement, Respondents; Avista Corporation, et al.; Avista Corporation, et al.; San Diego Gas & Electric Company; Pacific Gas and Electric Company; California Independent System Operator Corporation; Southern California Edison Company; California Power Exchange Corporation; San Diego Gas & Electric Company; Amoco Energy Trading Corporation, Amoco Production Company and Burlington Resources Oil & Gas Company v. El Paso Natural Gas Company; KN Marketing, LP v. El Paso Natural Gas Company; Public Utilities Commission of the State of California v. El Paso Natural Gas Company; El Paso Merchant Energy-Gas L.P.; and El Paso Merchant Energy Company; Southern California Gas Company v. El Paso Natural Gas Company; Kern River Gas Transmission Company; North Baja Pipeline LLC; California Independent System Operator Corporation; California Independent System Operator Corporation; California Power Exchange Corporation; Questar Pipeline Company.

Take notice that the Commissioners have been invited and one or more Commissioners and Commission staff expect to attend a conference called by the Western Governors' Association to discuss comprehensive energy policy in the western United States.

The conference will be held Thursday and Friday, February 1 and 2, 2001, at the Hilton Portland in Portland, Oregon. During the course of this meeting, discussion of issues pending in the above-listed cases could arise. Any person having an interest in energy policy in the Western United States, including any party in the above-listed cases, is invited to attend, although there is limited seating and paid registration will be processed on a first come, first served basis. Information discussed or disseminated in the meeting will not constitute part of the decisional record in the above-listed cases. Additional information about the meeting may be obtained from the Western Governors' Association website, http://www.westgov.org/.

Linwood A. Watson, Jr.,
Acting Secretary.

[FR Doc. 01-2633 Filed 1-30-01; 8:45 am]

BILLING CODE 6717-01-M